ENVIRONMENTAL PROTECTION AGENCY

[FRL-7996-7]

Science Advisory Board Staff Office; Notification of a Public Teleconference and Meeting of the Science Advisory Board Radiation Advisory Committee (RAC) RadNet Review Panel

AGENCY: Environmental Protection Agency (EPA).

ACTION: Notice.

SUMMARY: The EPA Science Advisory Board (SAB) Staff Office announces a public teleconference and face-to-face meeting of the SAB Radiation Advisory Committee (RAC) RadNet Review Panel of the SAB to discuss the Office of Radiation and Indoor Air (ORIA) draft report “Expansion and Upgrade of the RadNet Air Monitoring Network,” (Vols. 1 & 2), dated October 2005. The RAC will also receive a program update and briefings.

DATES: A public teleconference of the SAB Radiation Advisory Committee (RAC) RadNet Review Panel will be held on December 1, 2005 from 1 p.m. to 3 p.m. eastern standard time. The face-to-face public meeting will be held December 19 and 20, 2005 from 8:30 a.m to 5:30 p.m. central time. Upon completion of the RadNet Review, the RAC will receive a program update and briefing from ORIA on December 21, 2005 from 8:15 a.m. to no later than 1 p.m central time.

ADDRESSES: The public teleconference will take place via telephone only. The public face-to-face meeting will be held at the U.S. EPA National Air and Radiation Environmental Laboratory (NAREL), 540 South Morris Avenue, Montgomery, AL 36115.

FOR FURTHER INFORMATION CONTACT: Members of the public who wish to obtain the call-in number and access code for the December 1, 2005 teleconference, or further information concerning the public face-to-face meeting in Montgomery, AL may contact Dr. K. Jack Kooyoomjian, Designated Federal Officer (DFO), by mail at EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web site at: http://www.epa.gov/sab. Technical Contact: For questions and information concerning the document being reviewed, contact Dr. Mary E. Clark, U.S. EPA, ORIA by telephone at (202) 343-9348, fax at (202) 243-2395, or e-mail at clark.marye@epa.gov.

SUPPLEMENTARY INFORMATION: Summary: EPA's ORIA has requested EPA's Science Advisory Board to review its draft report “Expansion and Upgrade of the RadNet Air Monitoring Network,” (Vols. 1 & 2), dated October 2005. The purpose of the upcoming teleconference is for the RAC's RadNet Review Panel to be briefed on the document to be reviewed and to clarify the charge to the Panel. The purpose of the upcoming face-to-face meeting is to allow the SAB RAC RadNet Review Panel to conduct a peer review of the document. Meeting agendas and background information for the teleconference and face-to-face meetings will be posted on the SAB Web site at: http://www.epa.gov/sab prior to the meetings.

The SAB was established by 42 U.S.C. 4365 to provide independent scientific and technical advice, consultation, and recommendations to the EPA Administrator on the technical basis for Agency positions and regulations. The review will be conducted by the RAC's RadNet Review Panel, consisting of current SAB RAC members and additional outside experts. The Panel will comply with the provisions of the Federal Advisory Committee Act (FACA) and all appropriate SAB procedural policies. As such, all public meetings will be announced in the Federal Register at least 15 days prior to their scheduled times.

Background: Pursuant to the Federal Advisory Committee Act, Public Law 92-463, the SAB Staff Office hereby gives notice of a public meeting of the Radiation Advisory Committee (RAC) RadNet Review Panel. The EPA ORIA requested the SAB to provide advice on RadNet, which is the National Monitoring System (NMS) upgrade, formerly known as the Environmental Radiation Ambient Monitoring System (ERAMS). The RAC's RadNet Review Panel will review the draft document entitled “Expansion and Upgrade of the RadNet Air Monitoring Network,” (Vols. 1 & 2), dated October 2005. Additionally, the RAC will receive a program update and briefing related to ORIA program activities within the EPA for the coming year on the morning of December 21, 2005.

Additional background information on this review include notification of a public teleconference meeting of the RAC to receive briefings from the Agency and discuss its advisory agenda for FY 2005 [70 FR 4847, January 31, 2005], as well as a request for nominations of experts [70 FR 15083, March 24, 2005].

Persons who wish to obtain additional background materials on the current ERAMS network may find them at the following Web site: http://www.epa.gov/narel/erams/index.html. Copies of the materials provided to the RAC's RadNet Review Panel, including the Agency's draft document entitled “Expansion and Upgrade of the RadNet Air Monitoring Network,” (Vols. 1 & 2), dated October 2005, as well as briefing materials and other background materials pertinent to the activities announced in this notice may be requested from Dr. Mary E. Clark of the U.S. EPA, ORIA by telephone at (202) 343-9348, fax at (202) 243-2395, or e-mail at clark.marye@epa.gov.

Procedures for Providing Public Comment: The SAB Staff Office accepts written public comments of any length for consideration by the Panel and accommodates oral comments whenever possible. The EPA SAB Staff Office expects the public statements presented at SAB meetings will not repeat previously-submitted oral or written statements. Oral Comments: Requests to provide oral comment must be in writing (e-mail or fax) and received by Dr. Kooyoomjian at the contact information noted above no later than November 23, 2005 for the December 1, 2005 teleconference call, and December 12, 2005 for the December 19 to 21, 2005 meeting. Oral presentation at a teleconference meeting will usually be limited to three minutes per speaker or organization for a total of no more than fifteen minutes for all speakers. Written Comments: Written comments should be received by Dr. Kooyoomjian at the contact information noted above no later than November 23, 2005 for the December 1, 2005 teleconference call, and December 12, 2005 for the December 19 to 21, 2005 meeting so that comments may be made available to the Panelists for their consideration. Written comments should be received by Dr. Kooyoomjian (preferably by e-mail) at the address and contact information provided above in the following formats: one hard copy with original signature, and one electronic copy via e-mail (acceptable file format: Adobe Acrobat PDF, WordPerfect, Word, or Rich Text files (in IBM-PC/Windows 98/2000/XP format)). Those providing written comments and who attend the meeting are also asked to bring 35 copies of their comments for public distribution.

Meeting Access: Individuals requiring special accommodation to access the public teleconference or public meeting should contact Dr. Kooyoomjian at least five business days prior to the meeting, so that appropriate arrangements can be made. For information on access or services for individuals with disabilities, please contact Dr. K. Jack Kooyoomjian at 202-343-9984 or kooyoomjian.jack@epa.gov to request accommodation of a disability. Such accommodation is required by sections 504 and 508 of the Rehabilitation Act of 1973, 29 U.S.C. 794 and 794d, EPA's implementing regulations, 40 CFR part 12, and the federal standards for “Electronic and Information Technology Accessibility,” 36 CFR part 1194, which govern accessibility and accommodation in relation to EPA programs and activities, such as Federal Advisory Committee meetings.

Dated: November 8, 2005.
Anthony F. Maciorowski,
Associate Director for Science, EPA Science Advisory Board Staff Office.

[FR Doc. 05-22702 Filed 11-15-05; 8:45 am]

BILLING CODE 6560-50-P